DEPARTMENT OF VETERANS AFFAIRS

Corporate Senior Executive Management Office; Notice of Performance Review Board Members

AGENCY: Corporate Senior Executive Management Office, Department of Veterans Affairs.

ACTION: Notice.

SUMMARY: Agencies are required to publish a notice in the Federal Register of the appointment of Performance Review Board (PRB) members. This notice announces the appointment of individuals to serve on the PRB of the Department of Veterans Affairs.

DATES: This appointment is effective October 30, 2023.

ADDRESSES: Corporate Senior Executive Management Office, Department of Veterans Affairs, 810 Vermont Avenue NW, Washington, DC 20420.

FOR FURTHER INFORMATION CONTACT: Contact Carrie M. Johnson-Clark, Executive Director, Corporate Senior Executive Management Office (006D), Department of Veterans Affairs, 810 Vermont Avenue NW, Washington, DC 20420, 202-632-5181.

SUPPLEMENTARY INFORMATION: The membership of the Department of Veterans Affairs Performance Review Board is as follows:

Jackson, Kimberly M.—Chair

Law, Cassandra M.—Vice Chair

Arnold, Kenneth

Beard, Dewaine

Billups, Angela

Bocchicchio, Alfred

Boerstler, John

Boyd, Teresa

Brower, Marilyn

Brubaker, Paul

Choi, Joanne

Christy, Phillip

Crews, Paul

Dossie, Susie

Ellis, Anne

Eskenazi, Laura

Flint, Sandra

Gill, Airis

Goins, Gregory

Hall, Patricia

Hogan, Michael

Houston, Bradley

Jones, Wendell

Lambert, Jonathan

Lee, Aaron

Liezert, Timothy

Llorente, Maria

London, Jeffrey

Marsh, Willie C.

McCune, Daniel

McDivitt, Robert

McInerney, Joan

Murphy, Beth

Nassar, Joseph

Perry, David

Pope, Derwin B.

Pozzebon, Lisa

Rawls, Cheryl

Ruzick, Laura

Sullivan, Matthew

Tapp, Charles

Terrell, Brandye

Zomchek, Daniel

Signing Authority

Denis McDonough, Secretary of Veterans Affairs, approved and signed this document on October 24, 2023, and authorized the undersigned to sign and submit the document to the Office of the Federal Register for publication electronically as an official document of the Department of Veterans Affairs.

(Authority: 5 U.S.C. 4314(c)(4))

Jeffrey M. Martin,
Assistant Director, Office of Regulation Policy & Management, Office of General Counsel, Department of Veterans Affairs.

[FR Doc. 2023-23815 Filed 10-27-23; 8:45 am]

BILLING CODE 8320-01-P